ENVIRONMENTAL PROTECTION AGENCY

[EPA-HQ-OW-2005-0019; FRL-8955-8]

Agency Information Collection Activities; Proposed Collection; Comment Request; Renewal of the Information Collection Request for Contaminant Occurrence Data in Support of EPA's Third Six-Year Review of National Primary Drinking Water Regulations; EPA ICR No. 2231.02, OMB Control No. 2040-01

AGENCY: Environmental Protection Agency.

ACTION: Notice.

SUMMARY: In compliance with the Paperwork Reduction Act (PRA) (44 U.S.C. 3501 et seq.), this document announces that EPA is planning to submit a request to renew an existing approved Information Collection Request (ICR) to the Office of Management and Budget (OMB). This ICR is scheduled to expire on February 28, 2010. Before submitting the ICR to OMB for review and approval, EPA is soliciting comments on specific aspects of the proposed information collection as described below.

DATES: Comments must be submitted on or before November 10, 2009.

ADDRESSES: Submit your comments, identified by Docket ID No. EPA-HQ-OW-2005-0019 by one of the following methods:

• www.regulations.gov: Follow the on-line instructions for submitting comments.

• Mail: Water Docket, Environmental Protection Agency, Mailcode: 2822T, 1200 Pennsylvania Ave., NW., Washington, DC 20460.

• Hand Delivery: EPA Docket Center Public Reading Room, EPA Headquarters West, Room 3334, 1301 Constitution Ave., NW., Washington, DC. Such deliveries are only accepted during the Docket's normal hours of operation, and special arrangements should be made for deliveries of boxed information.

Instructions: Direct your comments to Docket ID No. EPA-HQ-OW-2005-0019. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. Please contact EPA prior to submitting CBI. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: Shari Bauman, Office of Ground Water and Drinking Water, Standards and Risk Management Division, Environmental Protection Agency, 1200 Pennsylvania Ave., NW. (MC 4607M), Washington, DC 20460; telephone number: (202) 564-0293.

SUPPLEMENTARY INFORMATION:

How Can I Access the Docket and/or Submit Comments?

EPA has established a public docket for this ICR under Docket ID No. EPA-HQ-OW-2005-0019, which is available for online viewing at www.regulations.gov, or in person viewing at the Water Docket in the EPA Docket Center (EPA/DC), EPA West, Room 3334, 1301 Constitution Ave., NW, Washington, DC. The EPA/DC Public Reading Room is open from 8:30 a.m. to 4:30 p.m., Monday through Friday, excluding legal holidays. The telephone number for the Reading Room is 202-566-1744, and the telephone number for the EPA Docket Center is 202-566-2426.

Use www.regulations.gov to obtain a copy of the draft collection of information, submit or view public comments, access the index listing of the contents of the docket, and to access those documents in the public docket that are available electronically. Once in the system, select “search,” then key in the docket ID number identified in this document.

What Information Is EPA Particularly Interested in?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

What Should I Consider When I Prepare My Comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What Information Collection Activity or ICR Does This Apply to?

Affected entities: Entities potentially affected by this action are the 56 primacy agencies (i.e., States and territories) subject to federal drinking water regulations.

Title: Agency Information Collection Activities; Proposed Collection; Comment Request; Renewal of the Information Collection Request for Contaminant Occurrence Data in Support of EPA's Third Six-Year Review of National Primary Drinking Water Regulations

ICR numbers: EPA ICR No. 2231.02, OMB Control No. 2040-01.

ICR status: This current ICR is scheduled to expire on February 21, 2010. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The Safe Drinking Water Act (SDWA), as amended in 1996, requires that the U.S. Environmental Protection Agency (EPA) review existing National Primary Drinking Water Regulations (NPDWRs) no less often than every six years. This cyclical evaluation is referred to as the “Six-Year Review of National Primary Drinking Water Regulations” or simply, the “Six-Year Review”. Through the Six-Year Review process, the EPA reviews and assesses risks to human health posed by regulated drinking water contaminants.

EPA completed and published review results for the first Six-Year Review cycle (1996-2002) on July 18, 2003 (68 FR 42908). The occurrence assessments conducted for the first Six-Year Review were based on compliance monitoring data from 1993 to 1997, which were provided by States.

EPA expects to complete and publish the review results for the second Six-Year Review cycle (2003-2009) in the near future. The occurrence assessments conducted for the second Six-Year Review are based on data collected between 1998 and 2005 and voluntarily submitted by States and other primacy agencies under the current Information Collection Request (ICR No. 2231.01, 71 FR 32340).

EPA's Office of Water is renewing the current ICR and requesting that States and other primacy agencies voluntarily provide historical compliance monitoring (contaminant occurrence) data for community water systems (CWSs) and non-transient non-community water systems (NTNCWSs) to the Agency. The Agency is requesting contaminant occurrence data and treatment technique data collected from 2006 to 2012 for all regulated chemical, radiological and microbial contaminants to support the Agency's future Six-Year Reviews. This collection request is the same as the current ICR (ICR No. 2231.01, 71 FR 32340) regarding data type and duration (i.e., same number of years). However, the Agency will be increasing the scope to request data collected for several additional rules (e.g., the Surface Water Treatment Rules, the Disinfectants and Disinfection By Product Rules, the Ground Water Rule) that are not reflected in the current ICR.

The compliance monitoring records in this information collection (including all results for analytical detections and non-detections) provide the data needed to conduct statistical estimates of national occurrence for regulated contaminants and evaluate the treatment technique information associated with control of pathogens, disinfectants, and disinfection byproducts. These national occurrence estimates and treatment technique information will support the SDWA section 1412(b)(9) mandate that requires the Agency to review the existing NPDWRs and determine whether revisions are appropriate. In addition, SDWA section 1445(g) requires the Agency to maintain a national drinking water contaminant occurrence database (i.e., the National Contaminant Occurrence Data (NCOD)) using occurrence data for both regulated and unregulated contaminants in public water systems (PWSs). This data collection will provide new occurrence data on regulated contaminants to maintain the NCOD.

It is in the interest of the Agency to minimize the burden on States (and other primacy agencies) by allowing submission of data in virtually any electronic format, and to provide States that use the Safe Drinking Water Information System State Versions (SDWIS/State) with extraction scripts if wanted.

Burden Statement: The annual public reporting and recordkeeping burden for this collection of information is estimated to average 12.2 hours per State. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Estimated total number of potential respondents: 56.

Frequency of response: One time only.

Estimated total average number of responses for each respondent: 1.

Estimated total annual burden hours: 681 hours.

Estimated total annual costs: $30,608. This includes an estimated burden cost of $30,608 and an estimated cost of $0 for capital investment or maintenance and operational costs.

It should be additionally noted that the values above should be considered estimated values and are from the current ICR approved by OMB. These values may change in part due to the scope modification; however, it is not expected to be significant.

Are There Changes in the Estimates From the Last Approval?

There is a potential for the estimated total cost to change compared with that identified in the ICR currently approved by OMB. The change will reflect the slight modification of the scope, revised burden hours, and updated labor costs. While the increase in the scope may increase the annual burden hour, the data extraction tool that assists States using SDWIS/State and the increased number of States utilizing this database (from those in the previous ICR) may likely minimize the increased annual burden hours. The anticipated burden hours could also decrease from that in the currently approved ICR based on feedback from the States about the actual number of hours utilized when States or primacy agencies chose to use the data extraction tool or load the data onto a secure website. The increase in labor costs, since the previous ICR, may increase the annual burden; however, it is anticipated that it will not be significant. Therefore, with the scope modification, revised burden hours, and updated labor costs, the change in the estimated annual costs may not be significant.

What Is the Next Step in the Process for This ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: September 2, 2009.
Cynthia C. Dougherty,
Director, Office of Ground Water and Drinking Water.

[FR Doc. E9-21941 Filed 9-10-09; 8:45 am]

BILLING CODE 6560-50-P